DEPARTMENT OF COMMERCE

National Institute of Standards and Technology

Visiting Committee on Advanced Technology

AGENCY: National Institute of Standards and Technology; Department of Commerce.

ACTION: Notice of partially closed meeting.

SUMMARY: Pursuant to the Federal Advisory Committee Act, 5 U.S.C. app. 2, notice is hereby given that the Visiting Committee on Advanced Technology, National Institute of Standards and Technology (NIST), will meet Tuesday, June 10, 2003, from 8:25 a.m. to 5 p.m. and Wednesday, June 11, 2003, from 9 a.m. to Noon. The Visiting Committee on Advanced Technology is composed of fourteen members appointed by the Director of NIST; who are eminent in such fields as business, research, new product development, engineering, labor, education, management consulting, environment, and international relations. The purpose of this meeting is to review and make recommendations regarding general policy for the Institute, its organization, its budget, and its programs within the framework of applicable national policies as set forth by the President and the Congress. The agenda will include a NIST Update, Reaffirming NIST's Role as the Leader of the Nation's Measurement System, Working with NIH, NIST Role in Biometrology, Trustworthy Computing, Enterprise Integration, Intelligent Data Infrastructure and laboratory tours of Tissue Engineering and Single Molecule Measurement and Manipulation. Discussions scheduled to begin at 4:15 p.m. and to end at 5 p.m. on June 10, 2003, and to begin at 9 a.m. and to end at noon on June 11, 2003, on the NIST budget, planning information and feedback sessions will be closed. Agenda may change to accommodate Committee business. Final agenda will be posted on Web site. All visitors to the National Institute of Standards and Technology site will have to pre-register to be admitted. Please submit your name, time of arrival, e-mail address and phone number to Carolyn Peters no later than Thursday, June 5, 2003, and she will provide you with instructions for admittance. Mrs. Peter's e-mail address is carolyn.peters@nist.gov and her phone number is (301) 975-5607.

DATES: The meeting will convene June 10, 2003 at 8:25 a.m. and will adjourn at Noon on June 11, 2003.

ADDRESSES: The meeting will be held in the Employees Lounge, Administration Building, at NIST, Gaithersburg, Maryland. Please note admittance instructions under SUMMARY paragraph.

FOR FURTHER INFORMATION CONTACT: Carolyn J. Peters, Visiting Committee on Advanced Technology, National Institute of Standards and Technology, Gaithersburg, Maryland 20899-1004, telephone number (301) 975-5607.

SUPPLEMENTARY INFORMATION: The Assistant Secretary for Administration, with the concurrence of the General Counsel, formally determined on February 25, 2003, that portions of the meeting of the Visiting Committee on Advanced Technology which deal with discussion of sensitive budget and planning information that would cause harm to third parties if publicly shared be closed in accordance with section 10(d) of the Federal Advisory Committee Act, 5 U.S.C. app. 2.

Dated: May 16, 2003.
Arden L. Bement, Jr.,
Director.

[FR Doc. 03-12911 Filed 5-22-03; 8:45 am]

BILLING CODE 3510-13-P